FEDERAL COMMUNICATIONS COMMISSION

Information Collection Being Reviewed by the Federal Communications Commission

AGENCY: Federal Communications Commission.

ACTION: Notice; request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before October 22, 2012. If you anticipate that you will be submitting PRA comments, but find it difficult to do so within the period of time allowed by this notice, you should advise the FCC contact listed below as soon as possible.

ADDRESSES: Submit your PRA comments to Judith B. Herman, Federal Communications Commission, via the Internet at Judith-b.herman@fcc.gov. To submit your PRA comments by email send them to: PRA@fcc.gov.

FOR FURTHER INFORMATION CONTACT: Judith B. Herman, Office of Managing Director, (202) 418-0214.

SUPPLEMENTARY INFORMATION:

OMB Control Number: 3060-0718.

Title: Part 101 Rule Sections Governing the Terrestrial Microwave Fixed Radio Service.

Form Number: N/A.

Type of Review: Revision of a currently approved collection.

Respondents: Business or other for-profit entities, not-for-profit institutions, federal government and state, local or tribal government.

Number of Respondents: 27,342 respondents; 27,342 responses.

Estimated Time per Response: 1.2962475 hours.

Frequency of Response: On occasion and 10 year reporting requirements, recordkeeping requirement and third party disclosure requirement.

Obligation to Respond: Required to obtain or retain benefits. Statutory authority for this information collection is contained in 47 U.S.C. Sections 151, 154(i), 301, 303(f), 303(g), 303(r), 307, 308, 309, 310 and 316.

Total Annual Burden: 35,442 hours.

Total Annual Cost: $810,000.

Privacy Impact Assessment: N/A.

Nature and Extent of Confidentiality: No questions of a confidential nature are asked.

Needs and Uses: The Commission is seeking OMB approval for revision of this information collection. There is a minor change to the Commission's previous burden estimates. The Commission is increasing the hourly burden by 200 hours and the annual cost by $50,000.

On August 3, 2012, the FCC adopted and released a Backhaul Second Report and Order, FCC 12-87, WT Docket No. 10-153, adopting a Rural Microwave Flexibility Policy directing the Commission's Wireless Telecommunications Bureau to favorably consider waivers of the payload capacity requirements if Fixed Service (FS) applicants demonstrate compliance with certain criteria, which is adding new reporting and recordkeeping requirements to this information collection.

In order to accommodate the consideration of waivers of the payload capacity of FS applicants pursuant to the Rural Microwave Flexibility Policy requirement, there is an increase in the total annual burden hours from 35,242 to 35,442 hours; an increase in the number of respondents and responses from 27,292 to 27,342; and an annual cost increase from $760,000 to $810,000 because of the new respondents, i.e., Fixed Service (FS) operators who choose to file under the Rural Microwave Flexibility Policy. The Policy directs the Bureau to favorably consider waivers of the requirements for payload capacity of equipment if the applicants demonstrate equipment compliance with the following criteria:

• The interference environment would allow the applicant to use a less stringent Category B antenna (although the applicant could choose to sue a higher performance Category A antenna);

• The applicant specifically acknowledges its duty to upgrade to a Category A antenna and come into compliance with the applicable efficiency standard if necessary to resolve an interference conflict with a current or future microwave link pursuant to 47 CFR 101.115(c);

• The applicant uses equipment that is capable of readily being upgraded to comply with the applicable payload capacity requirement, and provide a certification in its application that its equipment complies with this requirement;

• Each end of the link is located in a rural area (county or equivalent having a population density of 100 persons per square mile or less);

• Each end of the link is in a county with a low density of links in the 4, 6, 11, 18 and 23 GHz bands;

• Neither end of the link is contained within a recognized antenna farm; and

• The applicant describes its proposed service and explains how relief from the efficiency standards will facilitate providing that service (e.g., by eliminating the need for an intermediate hop) as well as the steps needed to come into compliance should an interference conflict emerge.

There is no change to the existing third party disclosure requirements.

Additionally, Part 101 rule sections requires various information to be reported to the Commission; coordinated with third parties; posting requirements; notification requirements to the public; and recordkeeping requirements maintained by the respondent to determine the technical, legal and other qualifications of applications to operate a station in the public and private operational fixed services.

Federal Communications Commission.
Marlene H. Dortch,
Secretary, Office of the Secretary, Office of Managing Director.

[FR Doc. 2012-20710 Filed 8-22-12; 8:45 am]

BILLING CODE 6712-01-P